DEPARTMENT OF TRANSPORTATION

Federal Aviation Administration

[Summary Notice No. PE-2000-15]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before May 15, 2000.

ADDRESSES: Send comments on any petition in triplicate to: Federal Aviation Administration, Office of the Chief Counsel, Attn: Rule Docket (AGC-200), Petition Docket No. ____, 800 Independence Avenue, SW., Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271 or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on April 18, 2000.
Donald P. Byrne,
Assistant Chief Counsel for Regulations.

Petitions for Exemption

Docket No.: 2857.

Petitioner; Flight Structures.

Section of the FAR Affected: 14 CFR 25.813(b), 25.857(e), 25.785(d), 25.1447(c)(3)(ii).

Description of Relief Sought: To allow carriage of one additional supernumerary increasing the total occupants to 9 on the Airbus Model A300-B4-103, -203 series airplanes.

Docket No.: CE160.

Petitioner; Ayres Corporation.

Section of the FAR Affected: 14 CFR 23.3.

Description of Relief Sought: To permit certification of the Ayres Corporation Model LM200 as a Commuter Category airplane with a novel and unusual twin engine, single-propeller propulsion system.

Docket No.: 27802.

Petitioner; Richmor Aviation.

Section of the FAR Affected: 14 CFR 21.197(c)(2).

Description of Relief Sought: To permit the issuance of a special flight permit with continuous authorization to Richmor for aircraft that are operated and maintained in accordance with 14 CFR 135.411(a)(1) and 135.419, “Approved Aircraft Inspection Program.”

Docket No.: 29937.

Petitioner; Southern California Aviation, Inc.

Section of the FAR Affected: 14 CFR 145.35 and 145.37.

Description of Relief Sought: To permit SCAI to perform aircraft storage related maintenance without meeting all the housing and facility requirements required by 145.35 and 145.37.

Dispositions of Petitions

Docket No.: 26533.

Petitioner: Parachute Laboratories, Inc., doing business as Jump Shack.

Section of the FAR Affected: 14 CFR 105.43(a).

Description of Relief Sought/Disposition: To permit (1) Jump Shack to allow its employees, representatives, and other volunteer experimental parachute test jumpers under its direct supervision and control to make intentional tandem parachute jumps while wearing a dual-harness, dual-parachute pack having at least one main parachute and one approved auxiliary parachute packed in accordance with 105.43(a), and (2) pilots in command of aircraft involved in these operations to allow such persons to make these parachute jumps. Grant, 03/10/2000, Exemption No. 5448D.

Docket No.: 28797.

Petitioner: Air Tractor Inc.

Section of the FAR Affected: 14 CFR 36.1(a)(2).

Description of Relief Sought/Disposition: To permit Air Tractor Inc.'s models AT-602, AT-802, and AT-802A airplanes, which are currently excepted from the requirements of 36.1(a)(2) as “agricultural aircraft,” to be exempted from the applicable noise certification requirements of 14 CFR part 36 for the purpose of spill eradication. Denial, 11/29/99, Exemption No. 7080.

Docket No.: 29577.

Petitioner: Bombardier Aerospace Corporation, Bombardier Business Jet Solutions Inc.

Section of the FAR Affected: 14 CFR 47.13(g) and 49.13(d).

Description of Relief Sought/Disposition: To permit petitioners to “use the powers of attorney now on file for the present owners * * * for a period of 6 years from the date of the grant of exemption or until such earlier date as each respective owners has terminated their interest in the concerned aircraft.” Specific aircraft have been identified to whose owners any waiver would apply. Denial, 03/29-03/2000, Exemption No. 7138.

Docket No.: 29721.

Petitioner: LET, a.s.

Section of the FAR Affected: 14 CFR C36.9(e)(1).

Description of Relief Sought/Disposition: To permit the 1-g stall speed used for the 14 CFR part 25 airworthiness certification to also be used for the 14 CFR part 36 noise certification for the approach reference and test limitations on the LET L-106G model airplane. Grant, 11/30/99, Exemption No. 7081.

Docket No.: 28457.

Petitioner: Mr. Clifford L. Hoyle.

Section of the FAR Affected: 14 CFR 21.19(b)(1).

Description of Relief Sought/Disposition: To permit Mr. Hoyle to apply for a supplemental type certificate for a design change to his Grob 103 Twin II glider (registration N39810, Serial No. 3913) to install a Bombardier Rotax 582 engine providing self-launching and sustained flight capabilities. Partial Grant, 03/08/2000, Exemption No. 7142.

Docket No.: 29736.

Petitioner: Tulsa Air & Space Center Airshows, Inc.

Section of the FAR Affected: 14 CFR 91.315, 119.5(g), and 119.21(a).

Description of Relief Sought/Disposition: To permit Tulsa Air & Space to operate its former military B-52, which is certified in the limited category, for the purpose of carrying passengers on local flights for compensation or hire, subject to certain conditions. Grant, 02/18/2000, Exemption No. 7126.

Docket No.: 29836.

Petitioner: Southwest Airlines, Co.

Section of the FAR Affected: 14 CFR 121.434(c) (1) (ii).

Description of Relief Sought/Disposition: To permit Southwest to substitute a qualified and authorized check airman in place of an FAA inspector to observe a qualifying PIC who is completing initial or upgrade training specified in 121.424 during at least on flight leg that includes a takeoff and a landing. Grant, 02/28/2000, Exemption No. 7132.

Docket No.: 29867.

Petitioner: Jetstream Aviation.

Section of the FAR Affected: 14 CFR 135.143 (c)(2).

Description of Relief Sought/Disposition: To permit Jetstream Aviation to operate its Cessna Model 310N (Registration No. N4165Q, Serial No. 310N-0065) and Piper PA-28 Cherokee 140 (Registration No. N657CA, Serial No. 28-22371) airplanes under part 135 without a TSO-C112 (Mode S) transponder installed on each airplane. Grant, 03/01/2000, Exemption No. 7134.

Docket No.: 29951.

Petitioner: Evergreen International Airlines, Inc.

Section of the FAR Affected: 14 CFR SFAR No. 79.

Description of Relief Sought/Disposition: To permit Evergreen International Airlines, Inc. to operate one flight to Pyongyang, the capital city of the Democratic People‘s Republic of Korea DPRK, on or about March 15, 2000, subject to certain conditions and limitations. Grant, 03/10/2000, Exemption No. 7145.

[FR Doc. 00-10017 Filed 4-20-00; 8:45 am]

BILLING CODE 4910-13-M